DEPARTMENT OF HEALTH AND HUMAN SERVICES

National Institutes of Health

Submission for OMB Review; Comment Request; NIH Intramural Research Training Award, Program Application

SUMMARY: Under the provisions of Section 3507(a)(1)(D) of the Paperwork Reduction Act of 1995, the Office of the Director, the National Institutes of Health (NIH) has submitted to the Office of Management and Budget (OMB) a request to review and approve the information collection listed below. This proposed information collection was previoiusly published in the Federal Register on Thursday, October 28, 1999, page 58071 and allowed 60 days for public comment. No public comments were received. The purpose of this notice is to allow an additional 30 days for pblic comment. The National Institutes of Health may not conduct or sponsor, and the respondent is not required to respond to, an information collection that has been extended, revised, or implemented on or after October 1, 1995, unless it displays a currently valid OMB control number.

Proposed Collection

Title: NIH Intramural Research Training Award, Program Application; Type of Information Collection Request: Revision of OMB No. 0925-0299; 4/30/2000; Need and Use of Information Collection: The proposed information collection activity is for the purpose of collecting data related to the availability of Training Fellowships under the NIH Intramural Resaerch Training Award Program. This information must be submitted in order to receive due consideration for an award and wil be used to determine the eligibility and quality of potential awardees. Frequency of Response: On occasion. Affected Public: Individuals seeking Intramural Training award opportunities. Type of Respondents: Postdoctoral, Predoctoral, Post-baccalaureate, Technical, and Student IRTA applicants.

Estimated Number of Respodents: 15,779. Estimated Number of Resposnes Per Respondent: 1. Average Burden Hours Requested: .53 Estimated Total Annual Burden Hours Requested: 8,422.

There are no Capital Costs, Operating Costs, and/or Maintenance Costs to report.

Type of respondent | Estimated number of respondents | Estimated number of responses per respondent | Average burden hours per response | Estimated total annual burden hours requested
Postdoctoral IRTA | 1,089 | 1 | 1 | 1,089
Predoctoral | 6 | 1 | 1 | 6
Postbaccalaureate | 290 | 1 | 1 | 290
Technical IRTA | 27 | 1 | 1 | 27
Student IRTA | 3,386 | 1 | 1 | 3,386
References for all IRTA categories | 10,981 |  | .33 | 3,624
Total | 15,779 | 1 | .53 | 8,422

Request for Comments

Written comments and/or suggestions from the public and affected agencies are invited on one or more of the following points: (1) Whether the proposed collection of information is necessary for the proper performance of the agency, including whether the information will have practical utility; (2) The accuracy of the agency's estimate of the proposed collection of information, including the validity of the methodology and assumptions used; (3) Ways to enhance the quality, utility, and the clarity of information to be collected; and (4) Ways to minimize the burden of the collection of information on those who are to respond, including the use of appropriate automated, electronic, mechanical, or other technological collection techniques or other forms of information technology.

Direct Comments to

Written comments and/or suggestions regarding the items contained in this notice, especially regarding the estimated public burden and associated response time, should be directed to the: Office of Management and Budget, Office of Regulatory Affairs, New Executive Office Building, Room 10235, Washington, D.C. 20503, Attention: Desk Officer for NIH. To request more information on the proposed project or to obtain a copy of the data collection plans and inistruments, contact: Edie Bishop, Human Resource Consultant, Office of Human Resource Management, OD, NIH, Building 31, Room B3C07, 31 Center Drive MSC. 2203, Bethesda, MD, 20892-2203.

Comments Due Date

Comments regarding this information collection are best assured of having their full effect if received within 30-days of the date of this publication.

Dated: February 17, 2000.
Frederick C. Walker,
Executive Officer, OD, NIH.

[FR Doc. 00-4551 Filed 2-25-00; 8:45 am]

BILLING CODE 4140-01-M